DEPARTMENT OF ENERGY

Environmental Management Site-Specific Advisory Board, Hanford

AGENCY: Department of Energy.

ACTION: Notice of open meeting.

SUMMARY: This notice announces a meeting of the Environmental Management Site-Specific Advisory Board (EM SSAB), Hanford. The Federal Advisory Committee Act (Pub. L. 92-463, 86 Stat. 770) requires that public notice of these meeting be announced in the Federal Register.

DATES: Wednesday, July 10, 2002, 9 a.m.-5 p.m.; Thursday, July 11, 2002, 8:30 a.m.-4 p.m.

ADDRESSES: Red Lion Hotel/Hanford House, 802 George Washington Way, Richland, WA (509) 946-7611.

FOR FURTHER INFORMATION CONTACT: Gail McClure, Public Involvement Program Manager, Department of Energy Richland Operations Office, P.O. Box 550 (A7-75), Richland, WA, 99352; Phone: (509) 373-5647; Fax: (509) 376-1563.

SUPPLEMENTARY INFORMATION:

Purpose of the Board

The purpose of the Board is to make recommendations to DOE and its regulators in the areas of environmental restoration, waste management, and related activities.

Tentative Agenda

Wednesday, July 10, 2002

• HAB Exposure Scenario Task Force Workshop Update and Discussion of Workshop Products

• Discussion and Introduction of Draft Advice on the Draft Hanford Site Solid (Radioactive and Hazardous) Waste Program Environmental Impact Statement

• Update on Groundwater/Vadose Program

• Discussion and Introduction of Draft Advice on the Plutonium Finishing Plant Tri-Party Agreement (TPA) Draft Change Package

• Discussion and Introduction of FY 2004 Target Budget Draft Advice

• Status on Draft Performance Management Plan for the Accelerated Cleanup of the Hanford Site

Thursday, July 11, 2002

• Adoption of Draft Advice

• Draft Hanford Site Solid (Radioactive and Hazardous) Waste Program Environmental Impact Statement

• Plutonium Finishing Plant Tri-Party (TPA) Agreement Draft Change Package

• FY 2004 Target Budget Draft Advice

• Access to Public Information

• Committee and Agency Updates

Public Participation

The meeting is open to the public. Written statements may be filed with the Board either before or after the meeting. Individuals who wish to make oral statements pertaining to agenda items should contact Gail McClure's office at the address or telephone number listed above. Requests must be received five days prior to the meeting and reasonable provision will be made to include the presentation in the agenda. The Deputy Designated Federal Officer is empowered to conduct the meeting in a fashion that will facilitate the orderly conduct of business. Each individual wishing to make public comment will be provided equal time to present their comments.

Minutes

The minutes of this meeting will be available for public review and copying at the Freedom of Information Public Reading Room, 1E-190, Forrestal Building, 1000 Independence Avenue, SW, Washington, DC 20585 between 9:00 a.m. and 4:00 p.m., Monday-Friday, except Federal holidays. Minutes will also be available by writing to Gail McClure, Department of Energy Richland Operation Office, P.O. Box 550, Richland, WA 99352, or by calling her at (509) 373-5647.

Issued at Washington, DC, on June 6, 2002.
Rachel M. Samuel,
Deputy Advisory Committee Management Officer.

[FR Doc. 02-14742 Filed 6-11-02; 8:45 am]

BILLING CODE 6450-01-P